DEPARTMENT OF AGRICULTURE

Food and Nutrition Service

Agency Information Collection Activities: Proposed Collection; Comment Request—Report of Supplemental Nutrition Assistance Program Benefit Issuance and Report of Commodity Distribution for Disaster Relief

AGENCY: Food and Nutrition Service (FNS), USDA.

ACTION: Notice.

SUMMARY: In accordance with the Paperwork Reduction Act of 1995, this notice invites the general public and other public agencies to comment on proposed information collections. The proposed collection is a revision of a currently approved collection for the Supplemental Nutrition Assistance Program and the Food Distribution Program.

DATES: Written comments must be received on or before May 27, 2014.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments regarding form FNS-292A may be sent to Dana Rasmussen, Chief, Policy Branch, Food Distribution Division, Food and Nutrition Service, U.S. Department of Agriculture, 3101 Park Center Drive, Room 506, Alexandria, VA 22302. Comments may also be submitted via fax to the attention of Mr. Rasmussen at (703) 305-2964 or via email to Dana.Rasmussen@fns.usda.gov.

Comments regarding form FNS-292B may be sent to Angela Kline, Chief, Certification Policy Branch, Program Development Division, Supplemental Nutrition Assistance Program, Food and Nutrition Service, U.S. Department of Agriculture, 3101 Park Center Drive, Room 812, Alexandria, VA 22302. Comments may also be submitted via fax to the attention of Ms. Kline at (703) 305-2896 or via email to Angela.Kline@fns.usda.gov.

Comments will also be accepted through the Federal eRulemaking Portal. Go to http://www.regulations.gov, and follow the online instructions for submitting comments electronically. All written comments will be open for public inspection at the office of the Food and Nutrition Service during regular business hours (8:30 a.m. to 5 p.m., Monday through Friday) at 3101 Park Center Drive, Alexandria, Virginia 22302, Room 812 and Room 506. All responses to this notice will be summarized and included in the request for Office of Management and Budget (OMB) approval. All comments will be a matter of public record.

FOR FURTHER INFORMATION CONTACT: Requests for additional information or copies of this information collection should be directed to Angela Kline, (703) 305-2495 or to Dana Rasmussen, (703) 305-1628.

SUPPLEMENTARY INFORMATION: Title: Supplemental Nutrition Assistance Program Benefit Issuances and Commodity Distribution for Disaster Relief.

OMB Number: 0584-0037.

Form Number(s): FNS-292A and FNS-292B.

Expiration Date: 7/31/2014.

Type of Request: Revision of a currently approved collection.

Abstract: The Food and Nutrition Service (FNS) utilizes forms FNS-292A and FNS-292B to collect information not otherwise available on the extent of FNS-funded disaster relief operations. Form FNS-292A is used by State distributing agencies to provide a summary report to FNS following termination of disaster commodity assistance and to request replacement of donated foods distributed during the disaster or situation of distress. Form FNS-292B is used by State departments of social services to report to FNS the number of households and persons certified for Disaster Supplemental Nutrition Assistance Program (D-SNAP) benefits as well as the value of benefits issued.

Donated food distribution in disaster situations is authorized under Section 32 of the Act of August 24, 1935 (7 U.S.C. 612c); Section 416 of the Agricultural Act of 1949 (7 U.S.C. 1431); Section 709 of the Food and Agriculture Act of 1965 (7 U.S.C. 1446a-1); Section 4(a) of the Agriculture and Consumer Protection Act of 1973 (7 U.S.C. 612c note); and by Sections 412 and 413 of the Robert T. Stafford Disaster Relief and Emergency Assistance Act (42 U.S.C. 5179, 5180). Program implementing regulations are contained in Part 250 of Title 7 of the Code of Federal Regulations (CFR). In accordance with 7 CFR 250.69(f), distributing agencies shall provide a summary report to the FNS within 45 days following termination of the disaster assistance.

Disaster assistance through SNAP is authorized by Sections 402 and 502 of the Robert T. Stafford Disaster Relief and Emergency Assistance Act (42 U.S.C. 5121 et seq.) and the temporary emergency provisions contained in Section 5 of the Food and Nutrition Act of 2008, and in 7 CFR Part 280 of the SNAP regulations. In accordance with 7 CFR 274.4, State agencies shall keep records and report SNAP participation and issuance totals to FNS.

Affected Public: State agencies that administer FNS disaster food relief activities.

Estimated Number of Respondents: 55.

Number of Responses per Respondent: The number of responses annually is estimated to be 4 responses per State agency (2 reporting and 2 recordkeeping).

Respondent | Estimated number of respondents | Responses annually per respondent | Total annual responses (Col. bxc) | Estimated avg. number of hours per response | Estimated total hours (Col. dxe)
(a) | (b) | (c) | (d) | (e) | (f)
Reporting Burden
State Agencies—Commodity Distribution Form FNS-292A | 55 | 1.00 | 55 | 0.4175 | 22.96
State Agencies—SNAP Benefit Issuance Form FNS-292B | 55 | 1.00 | 55 | 0.4175 | 22.96
Total Reporting Burden | 55 | 2.00 | 110 | 0.8350 | 45.92

Respondent | Estimated number of recordkeepers | Number of records per recordkeeper | Total annual records (Col. bxc) | Estimated avg. number of hours per record | Estimated total hours (Col. dxe)
(a) | (b) | (c) | (d) | (e) | (f)
Record Keeping Burden
State Agencies—Commodity Distribution Form FNS-292A | 55 | 1.00 | 55 | 0.084 | 4.62
State Agencies—SNAP Benefit Issuance Form FNS-292B | 55 | 1.00 | 55 | 0.084 | 4.62
Total Recordkeeping Burden | 55 | 2.00 | 110 | 0.168 | 9.24
Total Burden | 55 |  | 110 |  | 55.16

Estimated Total Annual Responses: 220. Due to calculation errors, the total annual responses increased from 110 to 220 since the last submission. This increase is due to adjustments for recordkeeping responses.

Estimated Time per Response: Public reporting burden for this collection of information is estimated to average 25 minutes (0.4175 hours) per form (FNS-292A and FNS-292B) per respondent (total of 50 minutes (.84 hours) per respondent). Recordkeeping burden for the State agencies is estimated to be 5 minutes (.084 hours) per form (FNS-292A and FNS-292B) per respondent (total of 10 minutes (.167 hours) per respondent).

Estimated Total Annual Burden: 3,300 minutes (55 hours), including a total reporting burden of 2,750 minutes (46 hours) and a total recordkeeping burden of 550 minutes (9 hours).

Combined Reporting and Recordkeeping Burden
Affected public | Instrument | Estimated number of respondents | Responses annually per respondent | Total annual responses (Col. bxc) | Estimated avg. number of hours per response | Estimated total hours (Col. dxe)
55 State Agencies Reporting/Recordkeeping | FNS 292 A | 55 | 2 | 110 | 0.4175 | 45.92
55 State Agencies Reporting/Recordkeeping | FNS 292 B | 55 | 2 | 110 | 0.084 | 9.24
Grand Total Reporting & Recordkeeping Burden Hours |  | 55 |  | 220 |  | 55.16

Dated: March 18, 2014.
Audrey Rowe,
Administrator, Food and Nutrition Service.

[FR Doc. 2014-06749 Filed 3-26-14; 8:45 am]

BILLING CODE 3410-30-P